FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Investment in Bank Premises Notification (FR 4014; OMB No. 7100-0139).

FOR FURTHER INFORMATION CONTACT: Federal Reserve Board Clearance Officer—Nuha Elmaghrabi—Office of the Chief Data Officer, Board of Governors of the Federal Reserve System, Washington, DC 20551, (202) 452-3829.

Office of Management and Budget (OMB) Desk Officer—Shagufta Ahmed—Office of Information and Regulatory Affairs, Office of Management and Budget, New Executive Office Building, Room 10235, 725 17th Street NW, Washington, DC 20503 or by fax to (202) 395-6974.

SUPPLEMENTARY INFORMATION: On June 15, 1984, OMB delegated to the Board authority under the Paperwork Reduction Act (PRA) to approve and assign OMB control numbers to collection of information requests and requirements conducted or sponsored by the Board. Board-approved collections of information are incorporated into the official OMB inventory of currently approved collections of information. Copies of the PRA Submission, supporting statements and approved collection of information instrument(s) are placed into OMB's public docket files. The Board may not conduct or sponsor, and the respondent is not required to respond to, an information collection that has been extended, revised, or implemented on or after October 1, 1995, unless it displays a currently valid OMB control number.

Final Approval Under OMB Delegated Authority of the Extension for Three Years, Without Revision, of the Following Information Collection

Report title: Investment in Bank Premises Notification.

Agency form number: FR 4014.

OMB control number: 7100-0139.

Frequency: Event-generated.

Respondents: State member banks.

Estimated number of respondents: 15.

Estimated average hours per response: 30 minutes.

Estimated annual burden hours: 8.

General description of report: The Federal Reserve Act (FRA) and the Board's Regulation H require a state member bank to seek the prior approval of the appropriate Federal Reserve Bank before making an investment in bank premises that exceeds certain thresholds. There is no required reporting form (the FR 4014 designation is for internal purposes only), and each request for prior approval must be filed with the Reserve Bank that has direct supervisory responsibility for the requesting state member bank.

Legal authorization and confidentiality: The FR 4014 is authorized by section 24A(a) of the FRA, which requires that state member banks obtain prior Board approval before investing in bank premises that exceed certain statutory thresholds.¹ The FR 4014 notification is required to obtain a benefit because banks wanting to make an investment in bank premises that exceed a certain threshold are required to notify the Federal Reserve. Generally, respondent data would not be confidential; however, individual respondents may request that the data be kept confidential on a case-by-case basis. If a respondent requests confidential treatment, the Board will determine whether the information is entitled to confidential treatment on an ad hoc basis in connection with the request. Any such determination will be made in accordance with the Freedom of Information Act ² and the Board's rules regarding availability of information.³

¹ 12 U.S.C. 371d(a). The Board has the authority to require state member banks to submit information as the Board deems necessary (12 U.S.C. 248(a)).

² 5 U.S.C. 552.

³ 12 CFR 261.

Current actions: On April 12, 2019, the Board published a notice in the Federal Register (84 FR 14938) requesting public comment for 60 days on the extension, without revision, of the FR 4014. The comment period for this notice expired on June 11, 2019. The Board did not receive any comments.

Board of Governors of the Federal Reserve System, August 7, 2019.
Michele Taylor Fennell,
Assistant Secretary of the Board.

[FR Doc. 2019-17188 Filed 8-9-19; 8:45 am]

BILLING CODE 6210-01-P